DEPARTMENT OF ENERGY

Federal Energy Regulatory Commission

[Docket No. EC04-146-000, et al.]

FortisUS Energy Corporation, et al.; Electric Rate and Corporate Filings

August 13, 2004.

The following filings have been made with the Commission. The filings are listed in ascending order within each docket classification.

1. FortisUS Energy Corporation, Maritime Electric Company, Limited, Fortis Properties Corporation

[Docket No. EC04-146-000]

Take notice that on August 12, 2004, FortisUS Energy Corporation, (FortisUS) Maritime Electric Company, Limited, and Fortis Properties Corporation (collectively, Applicants) submitted an application pursuant to section 203 of the Federal Power Act and part 33 of the Commission's regulations for authorization of a disposition of jurisdictional facilities. Applicant states that in the intra-corporate transaction described in the application, the ownership of FortisUS Energy Corporation, a public utility, will be transferred from Maritime Electric Company, Limited to Fortis Properties Corporation. Applicants further state that each of FortisUS Energy Corporation, Maritime Electric Company, Limited, and Fortis Properties Corporation are, and will continue to be, wholly-owned subsidiaries of Fortis Inc., a Canadian corporation.

Comment Date: 5 p.m. Eastern Time on September 2, 2004.

2. S&P Windfarm, LLC

[Docket No. EG04-92-000]

Take notice that on August 11, 2004, S&P Windfarm, LLC (S&P) filed with the Federal Energy Regulatory Commission an application for determination of exempt wholesale generator status pursuant to part 365 of the Commission's regulations.

S&P states that it owns and operates a 1.9 MW wind energy conversion facility near Brewster, Minnesota.

S&P states that a copy of this Application has been served on the Secretary of the Securities and Exchange Commission and on the Minnesota Public Utilities Commission.

Comment Date: 5 p.m. Eastern Time on September 1, 2004.

3. DL Windy Acres, LLC

[Docket No. EG04-93-000]

Take notice that on August 11, 2004, DL Windy Acres, LLC (DL Windy) filed with the Federal Energy Regulatory Commission an application for determination of exempt wholesale generator status pursuant to part 365 of the Commission's regulations.

DL Windy states that it owns and operates a 1.9 MW wind energy conversion facility near Brewster, Minnesota.

DL Windy states that a copy of this Application has been served on the Secretary of the Securities and Exchange Commission and on the Minnesota Public Utilities Commission.

Comment Date: 5 p.m. Eastern Time on September 1, 2004.

4. IDT Energy, Inc.

[Docket No. ER04-1035-001]

Take notice that on August 10, 2004, IDT Energy, Inc. (IDT Energy) submitted modifications to IDT Energy's FERC Rate Schedule No. 1, which originally had been filed in this proceeding on July 21, 2004. IDT Energy requests an effective date of September 20, 2004.

Comment Date: 5 p.m. Eastern Time on August 31, 2004.

5. Xcel Energy Operating Companies, Northern States Power Company d/b/a Xcel Energy

[Docket No. ER04-1107-000]

Take notice that on August 10, 2004, Xcel Energy Services Inc. (XES) on behalf of Northern States Power Company d/b/a Xcel Energy (NSP) filed a signed Contract for Interconnection, Load Control Boundary and Maintenance between NSP and the United States Department of Energy Western Area Power Administration (Pick-Sloan Missouri Basin Program, Eastern Division) dated July 12, 2004. XES states that it proposes that the Interconnection Agreement be designated as Rate Schedule 446-NSP to the Xcel Energy Operating Companies FERC Electric Tariff, Original Volume No. 3. XES requests an effective date of January 31, 2001.

Comment Date: 5 p.m. Eastern Time on August 31, 2004.

6. Holland Energy, LLC

[Docket No. ER04-1075-000]

Take notice that on August 2, 2004, Holland Energy, Inc. (Holland) submitted, under section 205 of the Federal Power Act, its proposed FERC Electric Tariff, Original Volume No. 2, for reactive supply and voltage control from independent generation resources service provided to the transmission system under the operational control of the Midwest Independent Transmission System Operator, Inc.

Comment Date: 5 p.m. Eastern Time on August 23, 2004.

7. Mid-American Energy Commission

[Docket No. ER04-1108-000]

Take notice that on August 10, 2004, MidAmerican Energy Company (MidAmerican) filed with the Commission an amended Interconnection Agreement with the City of Carlisle, Iowa. MidAmerican requests an effective date of June 28, 2004.

Comment Date: 5 p.m. Eastern Time on August 31, 2004.

8. Central Vermont Public Service Corporation

[Docket No. ER04-1109-000]

Take notice that on August 10, 2004, Central Vermont Public Service Corporation (Central Vermont) tendered for filing a revised Network Integration Transmission Service Agreement and Network Operating Agreement with Vermont Electric Cooperative, Inc. (VEC) under Central Vermont's Open Access Transmission Tariff, FERC Electric Tariff, Second Revised Volume No. 7. Central Vermont states that the revised Service Agreement deletes references to metering facilities that have been removed and adds a delivery point. Central Vermont requests an effective date of July 15, 2004.

Central Vermont states that copies of the filing were served upon VEC, the Vermont Public Service Board and the Vermont Department of Public Service.

Comment Date: 5 p.m. Eastern Time on August 31, 2004.

9. Mirant Zeeland, LLC

[Docket No. ER04-1110-000]

Take notice that on August 10, 2004, Mirant Zeeland, LLC (Zeeland) filed its proposed tariff (FERC Electric Tariff, Original Volume No. 2) and supporting cost data for its annual revenue requirement under Midwest Independent System Operator, Inc.'s (Midwest ISO) proposed Schedule 21—Reactive Supply and Voltage Control from Independent Generation Sources Service. Zeeland requests an effective date of October 1, 2004.

Zeeland states that it has served copies of this filing on the Michigan Public Service Commission, the Midwest ISO, and Michigan Electric Transmission Company.

Comment Date: 5 p.m. Eastern Time on August 31, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Acting Secretary.

[FR Doc. E4-1868 Filed 8-19-04; 8:45 am]

BILLING CODE 6717-01-P